Title 3—

The President

Proclamation 8843 of July 26, 2012

Anniversary of the Americans with Disabilities Act, 2012

By the President of the United States of America

A Proclamation

Since our earliest days, America has measured its progress not only by the growth of our borders and the breadth of our economy, but also by how far we reach toward fully realizing the fundamental rights, protections, and freedoms afforded to each of us by our Nation's founding documents. For generations, many Americans with disabilities lived as second-class citizens who were denied those most basic opportunities. Not content to accept the world as it was, they marched and organized and testified, coupling quiet acts of persistence and perseverance with vocal acts of advocacy. And step by step, progress was won. Protections were put into law. And a wave of change swept across our country, tearing down the barriers that kept persons with disabilities from securing their fullest measure of happiness.

Today, we mark the 22nd anniversary of the Americans with Disabilities Act (ADA)—a historic piece of civil rights legislation that affirmed Americans with disabilities are Americans first. When many wrongfully doubted that people with disabilities could participate in our society, contribute to our economy, or support their families, the ADA asserted that they could. Under this landmark law, America became the first Nation to comprehensively declare equality for its citizens with disabilities—an accomplishment that continues to guide our country toward fulfilling its most essential promises not just for some, but for all.

Yet, despite the gains we have made, independence and freedom from discrimination remain out of reach for too many individuals with disabilities. That is why my Administration continues to build on the legacy set forth by the ADA. Thanks to the Affordable Care Act, insurance companies can no longer deny coverage to children with disabilities because of pre-existing conditions, medical history, or genetic information—a provision that will be extended to all Americans in 2014. We have fought to protect and strengthen Medicare and Medicaid by improving benefits and opposing proposals that would shift costs to seniors and persons with disabilities. And earlier this year, we established the Administration for Community Living at the Department of Health and Human Services to help ensure people with disabilities have the support they need to live with respect and dignity in their communities, and to be fully included in our national life.

Because every American deserves access to a world-class education, we have worked to make learning environments safer and more inclusive. Last September, the Department of Education implemented new standards for the Individuals with Disabilities Education Act that will help measure and improve outcomes for infants and toddlers with disabilities. Moving forward, we will continue to take action to help all children learn, develop, and participate in instructional programs that equip them with the tools for success in school and beyond.

As we mark this milestone and reflect on the barriers that remain, we also pay tribute to the courageous individuals and communities who have made progress possible. Because so many advocates understood injustice from the depths of their own experience, they also knew that by allowing injustice to stand, we were depriving our Nation and our economy of the full talents and contributions of tens of millions of Americans with disabilities. Today, those Americans are leaders not only in every field and throughout every part of our national life, but also in the journey to bring the American dream within reach for our next generation. On this anniversary of the ADA, we celebrate the contributions Americans with disabilities have made to our Nation, and we rededicate ourselves to empowering every individual with those most American principles of equal access and equal opportunity.

NOW, THEREFORE, I, BARACK OBAMA, President of the United States of America, by virtue of the authority vested in me by the Constitution and the laws of the United States, do hereby proclaim July 26, 2012, the Anniversary of the Americans with Disabilities Act. I encourage Americans across our Nation to celebrate the 22nd anniversary of this civil rights law and the many contributions of individuals with disabilities.

IN WITNESS WHEREOF, I have hereunto set my hand this twenty-sixth day of July, in the year of our Lord two thousand twelve, and of the Independence of the United States of America the two hundred and thirty-seventh.

[FR Doc. 2012-18812

Filed 7-30-12; 8:45 am]

Billing code 3295-F2-P